DEPARTMENT OF THE TREASURY

Internal Revenue Service

Superfund Tax on Chemical Substances; Request To Modify List of Taxable Substances; Notice of Filing for Styrene-Acrylonitrile (a = 0.26, s = 0.74); Correction

AGENCY: Internal Revenue Service (IRS), Treasury.

ACTION: Notice of Filing and Request for Comments; correction

SUMMARY: The Department of the Treasury and the IRS published a document in the Federal Register of April 3, 2025, concerning the notice of filing for styrene-acrylonitrile ((C3H3N)a-(C8H8)s; a = 0.26, s = 0.74), public docket number IRS-2025-0031. This document contained an incorrect date for the petition filing date for purposes of refund claims.

FOR FURTHER INFORMATION CONTACT: Camille Edwards Bennehoff at (202) 317-6855 (not a toll-free number).

SUPPLEMENTARY INFORMATION:

Correction

In the Federal Register of April 3, 2025, in 90 FR on page 14693, in the second column near the bottom of the page, correct paragraph (b)(4)(ii) to read as follows:

“(ii) Petition filing date for purposes of section 11.02 of Rev. Proc. 2022-26, as modified by section 3 of Rev. Proc. 2023-20: April 1, 2024.”

Oluwafunmilayo A. Taylor,
Section Chief, Publications and Regulations Section, Associate Chief Counsel (Procedure and Administration).

[FR Doc. 2025-07793 Filed 5-5-25; 8:45 am]

BILLING CODE 4830-01-P